DEPARTMENT OF DEFENSE

Office of the Secretary

[Docket ID DOD-2011-OS-0129]

Proposed Collection; Comment Request

AGENCY: Office of the Under Secretary of Defense for Personnel and Readiness/National Security Education Program, DoD.

ACTION: Notice.

SUMMARY: In compliance with Section 3506(c)(2)(A) of the Paperwork Reduction Act of 1995, the Office of the Under Secretary of Defense for Personnel and Readiness/National Security Education Program announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 20, 2012.

ADDRESSES: You may submit comments, identified by docket number and title, by any of the following methods:

• Federal eRulemaking Portal: http://www.regulations.gov. Follow the instructions for submitting comments.

• Mail: Federal Docket Management System Office, 4800 Mark Center Drive, East Tower, 2nd floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense for Personnel and Readiness/National Security Education Program, Attn: Dr. Michael Nugent, PO Box 12221, Arlington, VA 22209-2221, or call at (703) 696-5673.

Title; Associated Form; and OMB Number: National Language Service Corps; DD Forms 2932, 2933, and 2934; OMB Number 0704-0449.

Needs and Uses: The information collection requirement is necessary to identify individuals with language and special skills who potentially qualify for employment or service opportunities in the public section during periods of national need or emergency.

Affected Public: Individuals or households.

Annual Burden Hours: 750.

Number of Respondents: 2,500.

Responses per Respondent: 1.807.

Average Burden per Response: 10 minutes.

Frequency: On occasion.

SUPPLEMENTARY INFORMATION:

Summary of Information Collection

The DD Form 2932, National Language Service Corps (NLSC) Pilot Application, is the initial document used to collect information from members of the public. The NLSC Pilot Application form contains a brief set of screening questions and provides background data on where the applicant learned the foreign language and whether the applicant has used the language professionally. Applicants fill this out for basic information (age, citizenship, Foreign Language), and if they meet eligibility criteria, they proceed to the supplemental documents. Members are required to renew their DD Form 2932 information every four years. Those who enrolled in 2008 will need to start their renewals in 2012. Renewing applicants are in addition to those initially applying.

The supplemental documents are used to determine eligibility for membership in the NLSC. The DD Form 2934, National Language Service Corps (NLSC) Global Language Self-Assessment, provides an overall assessment of the applicant's foreign language ability. The DD Form 2933, National Language Service Corps (NLSC) Pilot Detailed Skills Self-Assessment, is a detailed description of the applicant's skills with respect to specific foreign language tasks. These two supplemental documents are used in conjunction for the certification of language skills for entry into the NLSC and quality assurance of certification.

The information collected in the application and the supplemental documents is used solely by the NLSC.

Dated: November 16, 2011.
Aaron Siegel,
Alternate OSD Federal Register Liaison Officer, Department of Defense.

[FR Doc. 2011-29995 Filed 11-18-11; 8:45 am]

BILLING CODE 5001-06-P